DEPARTMENT OF JUSTICE

Notice of Lodging Proposed Consent Decree

In accordance with Departmental Policy, 28 CFR 50.7, notice is hereby given that a proposed Consent Decree in United States v. Smith Farm Enterprises, L.L.C., Civil Action No. 2:13-CV-00024-RGD-LRL, was lodged with the United States District Court for the Eastern District of Virginia on January 16, 2013.

This proposed Consent Decree concerns a complaint filed by the United States against Smith Farm Enterprises, L.L.C., pursuant to Section 309 of the Clean Water Act, 33 U.S.C. 1319, to obtain injunctive relief and recover civil penalties from the Defendant for alleged violations of the Clean Water Act by discharging pollutants into waters of the United States without and in violation of required Clean Water Act permits. The proposed Consent Decree resolves these allegations by requiring the Defendant to restore impacted areas, perform mitigation and pay a civil penalty.

The Department of Justice will accept written comments relating to this proposed Consent Decree for thirty (30) days from the date of publication of this Notice. Please address comments to David J. Kaplan, Senior Attorney, United States Department of Justice, Environment and Natural Resources Division, P.O. Box 7611, Washington, DC 20044-7611, and refer to United States v. Smith Farm Enterprises, L.L.C., DJ #90-5-1-7-19117.

The proposed Consent Decree may be examined at the Clerk's Office, United States District Court for the Eastern District of Virginia, Walter E. Hoffman United States Courthouse, 600 Granby Street, Norfolk, VA 23510. In addition, the proposed Consent Decree may be viewed at http://www.justice.gov/enrd/Consent_Decrees.html.

Cherie L. Rogers,
Assistant Section Chief, Environmental Defense Section, Environment and Natural Resources Division.

[FR Doc. 2013-03688 Filed 2-15-13; 8:45 am]

BILLING CODE P